DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-Site Evaluation of the National Child Traumatic Stress Initiative (NCTSI)—NEW

The Substance Abuse and Mental Health Services Administration's (SAMHSA), Center for Mental Health Services (CMHS) will conduct the Cross-Site Evaluation of the National Child Traumatic Stress Initiative (NCTSI). The data collected will describe the children and families served by the National Child Traumatic Stress Network (NCTSN) and their outcomes, assess the development and dissemination of effective treatments and services, evaluate intra-network collaboration, and assess the Network's impact beyond the NCTSN.

Data will be collected from caregivers, NCTSN staff (e.g., project directors, researchers, and providers), mental health providers outside of the NCTSN, and non-mental health service providers who provide services to children outside of the NCTSN. Data collection will take place in 31 Community Treatment and Services Programs (CTS), 13 Treatment and Service Adaptation Centers (TSA), and 2 National Centers for Child Traumatic Stress (NCCTS). Data collection for this evaluation will be conducted over a four-year period.

In order to describe the children served, their outcomes, and satisfaction with services, data will be collected from youth ages 7-18 who are receiving services in the NCTSN, and from caregivers for all children who are receiving NCTSN services. Data will be collected when the child/youth enters services and during subsequent follow-up sessions at three-month intervals over the course of one year. Approximately 2,333 youth and 3,300 caregivers will participate in the evaluation.

Data will be collected for use in the development of evaluation measures that will assess the development, dissemination and adoption of trauma-informed services. These data will be collected from a total of approximately 121 NCTSN service providers, project directors and NCCTS staff. Data will be collected one time from these respondents.

Measures that collect data on development, dissemination, and adoption of trauma-informed services and other NCTSN products will be administered to approximately 1,100 service providers, 88 project directors, and 44 researchers/evaluators. These measures will be administered once per year in each of the four years of the evaluation.

To assess collaboration across the network, data will be collected from approximately 454 NCTSI staff and 54 project directors/principal investigators. The surveys associated with this data collection will be administered at varying intervals, with either one or two data collection points per respondent over the four years of the evaluation.

Product development and dissemination will be evaluated with data that will be collected from 88 project directors/principal investigators. These data will be collected annually.

To assess the national impact of the NCTSN, data will be collected from 1,600 mental health and 1,600 non-mental health service providers from outside the NCTSN. These data will be collected every second year over the four years of the evaluation (i.e., two data collection points per respondent).

Note.—Total Burden Is Annualized Over the 3-Year Clearance Period
Instrument | Number of respondents | Total average number of responses per respondent | Hours per response | Total burden hours | 3 yr. average annual burden hours
Caregivers
Child Behavior Checklist 1.5-5/6-18 (CBCL 1.5-5/6-18) | ¹ 3,300 | 5 | 0.3 | 5,445 | 1,815
Trauma Information/Detail Form | 3,300 | 5 | 0.2 | 3,630 | 1,210
Baseline/Renewal Assessment | 3,300 | 5 | 0.2 | 3,630 | 1,210
Core Clinical Characteristics Form | 3,300 | 5 | 0.4 | 6600 | 2200
Youth Services Survey for Families (YSS-F) | 3,300 | 1 | 0.1 | 264 | 88
UCLA-PTSD Short Form (UCLA-PTSD) | 3,300 | 5 | 0.2 | 2,805 | 935
Case Study Interviews | ² 5 | 1 | 1.5 | 8 | 3
Youth
Trauma Symptoms Checklist for Children—Abbreviated (TSCC-A) | ³ 2,333 | 5 | 0.3 | 3,849 | 1,283
Network Service Provider
Trauma-informed Service Key Informant Interviews | 18 | 1 | 0.5 | 9 | 3
Trauma-informed Service Discussion Groups | 54 | 1 | 1.0 | 54 | 18
Trauma-informed Service Provider Survey (TIS) | 1,540 | 3 | 0.5 | 2,310 | 770
General Adoption Assessment Survey (GAAS) | 1,100 | 3 | 0.5 | 1,650 | 550
Adoption and Implementation Factors Interview (AIFI) | 50 | 2 | 0.5 | 50 | 17
Project Director/Principal Investigator
Trauma-informed Service Key Informant Interviews | 18 | 1 | 0.5 | 9 | 3
Trauma-informed Service Discussion Groups | 18 | 1 | 1.0 | 18 | 6
Product/Innovations Development and Dissemination Survey (PDDS) | 88 | 3 | 1.5 | 396 | 132
General Adoption Assessment Survey (GAAS) | 44 | 3 | 0.5 | 66 | 22
Adoption and Implementation Factors Interview (AIFI) | 9 | 2 | 0.5 | 9 | 3
Network Survey | 54 | 2 | 1.0 | 108 | 36
Other Network Staff
Trauma-informed Service Key Informant Interviews | ⁴ 4 | 1 | 0.5 | 2 | 1
Trauma-informed Service Discussion Groups | ⁴ 9 | 1 | 1.0 | 9 | 3
Telephone Interviews | ⁵ 35 | 2 | 1.5 | 105 | 35
Case Study Interviews | ⁶ 10 | 1 | 2.0 | 20 | 7
General Adoption Assessment Survey (GAAS) | ⁷ 44 | 3 | 0.5 | 66 | 22
Adoption and Implementation Factors Interview (AIFI) | ⁸ 30 | 2 | 0.5 | 30 | 10
Network Survey | ⁹ 54 | 2 | 1.0 | 108 | 36
Child Trauma Partnership Tool (CTPT) | ¹⁰ 400 | 1 | 0.8 | 300 | 100
Non-Network Mental Health Professionals
National Impact Survey | 1,600 | 2 | 0.5 | 1,600 | 533
Non-Network Non-Mental Health Professionals
National Impact Survey | 1,600 | 1 | 0.5 | 800 | 267
Non-Network Product Developers
Case Study Interviews | 10 | 1 | 1.5 | 15 | 5
Total Summary | 10,999 | 71 |  |  | 33,965
Total Annual Summary | 3,666 | 24 |  |  | 11,322
¹ An average of 25 caregivers in 44 NCTSN centers (31 CTS. 13 TSA) will participate in the Descriptive and Clinical Outcomes and Satisfaction studies.
² One caregiver will participate in each of the 5 case studies that will be conducted during the clearance period.
³ Based on SUF Report of demographics of children served in the NCTSN, approximately 71 percent of the children in the evaluation will be between the ages of 7 and 18.
⁴ Respondents will be NCCTS staff.
⁵ Respondents will be workgroup/taskforce coordinators.
⁶ Respondents will be stakeholders.
⁷ Respondents will be evaluators.
⁸ Respondents will be researchers, supervisors, and administrators.
⁹ Respondents will be center directors.
¹⁰ Respondents will be collaboration structure staff.

Written comments and recommendations concerning the proposed information collection should be sent by February 13, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: January 9, 2006.
Anna Marsh,
Director, Office of Program Services.

[FR Doc. E6-303 Filed 1-12-06; 8:45 am]

BILLING CODE 4162-20-P